ENVIRONMENTAL PROTECTION AGENCY

[FRL-6535-6]

Gulf of Mexico Program Policy Review Board Meeting

AGENCY: Environmental Protection Agency (EPA).

ACTION: Notice of meeting.

SUMMARY: Under the Federal Advisory Act, Public Law 92463, EPA gives notice of a meeting of the Gulf of Mexico Program (GMP) Policy Review Board (PRB).

DATES: The PRB meeting will be held on Friday, March 3, 2000 from 8 a.m. to 4:30 p.m.

ADDRESSES: The meeting will be held at the U.S. Environmental Protection Agency Region 4,Regional Administrator's Conference Room, 61 Forsyth Street, Fourteenth Floor, Atlanta,Georgia 30303, telephone (404) 562-8357.

FOR FURTHER INFORMATION CONTACT: Gloria D. Car, Designated Federal Officer, Gulf of Mexico Program Office, Building 1103, Room 202, Stennis Space Center, MS 39529-6000 at (228) 688-2421.

SUPPLEMENTARY INFORMATION: Proposed agenda items will include: Review of GMP Priority Projects Identified by the States for FY 2000, Review of Federal Project Inventory—FY 2000 & FY 2001, and Discussion of Developing Support for the GMP.

The meeting is open to the public.

Dated: February 7, 2000.
Gloria D. Car,
Designated Federal Officer, Gulf of Mexico Program Office.

[FR Doc. 00-3211 Filed 2-10-00; 8:45 am]

BILLING CODE 6560-50-P